DEPARTMENT OF THE TREASURY

Submission for OMB Review; Comment Request

September 8, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 18, 2004 to be assured of consideration.

Alcohol and Tobacco Tax and Trade Bureau (TTB)

OMB Number: 1513-0001.

Form Number: TTB F 5000.19.

Type of Review: Extension.

Title: Tax Authorization Information.

Description: TTB F 5000.19 is required by TTB to be filed when respondent's representative, not having a power of attorney, wishes to obtain confidential information regarding the respondent. After proper completion of the form, information can be released to the representative.

Respondents: Business of other for-profit.

Estimated Number of Respondents: 50.

Estimated Burden Hours Per Respondent: 1 hour.

Frequency of Response: On occasion.

Estimated Total Reporting Burden: 50 hours.

OMB Number: 1513-0003.

Form Number: TTB F 5000.21.

Type of Review: Extension.

Title: Referral of Information.

Description: TTB asks the Federal agency or State or local regulatory compliance agency to respond as to any action that will be taken and if so the action planned on referrals of potential violations of Federal, State or local law discovered by TTB personnel during investigations. This form is also used to evaluate effectiveness of these referrals.

Respondents: Federal Government, State, Local or Tribal Government.

Estimated Number of Respondents: 500.

Estimated Burden Hours Per Respondent: 1 hour.

Frequency of Response: Other (as necessary).

Estimated Total Reporting Burden: 500 hours.

OMB Number: 1513-0054.

Form Number: TTB F 5640.1.

Type of Review: Extension.

Title: Offer in Compromise of Liability Incurred under the Provisions of Title 26 U.S.C. Enforced and Administered by the Alcohol and Tobacco Tax and Trade Bureau.

Description: TTB F 5640.1 is used by persons who wish to compromise criminal and/or civil penalties for violations of the Internal Revenue code. If accepted, the office in compromise is a settlement between the government and the party in violation in lieu of legal proceedings or prosecution. The form identifies the party making the offer, violations, amount of offer and circumstances concerning the violations.

Respondents: Business of other for-profit.

Estimated Number of Respondents: 40.

Estimated Burden Hours Per Respondent: 2 hours.

Frequency of Response: On occasion.

Estimated Total Reporting Burden: 80 hours.

OMB Number: 1513-0096.

Form Number: TTB F 5300.27.

Type of Review: Extension.

Title: Federal Firearms and Ammunition Excise Tax Deposit.

Description: Businesses and individuals who manufacture or import firearms, shells and cartridges may be required to deposit Federal excise tax. TTB uses this information to identify the taxpayer and the deposit.

Respondents: Business of other for-profit, Individuals or households.

Estimated Number of Respondents: 283.

Estimated Burden Hours Per Respondent: 9 minutes.

Frequency of Response: Other.

Estimated Total Reporting Burden: 770 hours.

Clearance Officer: William H. Foster, (202) 927-8210, Alcohol and Tobacco Tax and Trade Bureau, Room 200 East, 1310 G. Street, NW., Washington, DC 20005.

OMB Reviewer: Joseph F. Lackey, Jr., (202) 395-7316, Office of Management and Budget, Room 10235, New Executive Office Building, Washington, DC 20503.

Lois K. Holland,
Treasury PRA Clearance Officer.

[FR Doc. 04-20996 Filed 9-16-04; 8:45 am]

BILLING CODE 4810-31-P